DEPARTMENT OF DEFENSE

Office of the Secretary

[Docket ID: DoD-2024-OS-0081]

Proposed Collection; Comment Request

AGENCY: Defense Acquisition University (DAU), Department of Defense (DoD).

ACTION: 60-Day information collection notice.

SUMMARY: In compliance with the Paperwork Reduction Act of 1995, the DAU announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 13, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Acquisition University, 9820 Belvoir Road, Fort Belvoir, VA 22060, ATTN: Mr. Chris Johnson, or call 703-805-4854.

SUPPLEMENTARY INFORMATION:

Title; Associated Form; and OMB Number: Data Services Management; OMB Control Number 0704-0591.

Needs and Uses: The Data Services Management provides administrative and academic capabilities and functions related to student registrations, account requests, courses attempted and completed, and graduation notifications to DoD training systems.

Affected Public: Individuals or households.

Annual Burden Hours: 208.

Number of Respondents: 2,500.

Responses per Respondent: 1.

Annual Responses: 2,500.

Average Burden per Response: 5 minutes.

Frequency: On occasion.

Respondents are university applicants, DoD Acquisition Workforce students (contractor personnel sponsored by a DoD Program Management Office), and instructors who voluntarily provide personal information to take courses administered by DAU or access DAU training, knowledge-sharing, collaboration systems, and course offerings. Failure to provide required information results in the individual being denied access to these services and tools. All respondents are providing data which is used to support the academic functions, including: attendance, grades, statistical analysis, tracking, and reporting for Defense Acquisition Workforce Improvement Act Certification purposes. These functions are necessary to support Acquisition Workforce Certifications; graduation data will be shared with the Services and Corporate Partners of DoD-sponsored students.

Dated: July 9, 2024.
Aaron T. Siegel,
Alternate OSD Federal Register Liaison Officer, Department of Defense.

[FR Doc. 2024-15423 Filed 7-12-24; 8:45 am]

BILLING CODE 6001-FR-P